DEPARTMENT OF LABOR

Occupational Safety and Health Administration

[Docket No. OSHA-2016-0005]

Preparations for the 39th Session of the UN Sub-Committee of Experts on the Globally Harmonized System of Classification and Labelling of Chemicals (UNSCEGHS)

AGENCY: Occupational Safety and Health Administration (OSHA), Labor.

ACTION: Notice of public meetings.

SUMMARY: This notice is to advise interested persons that OSHA will conduct a virtual public meeting in advance of certain international meetings. The first meeting will be held in advance of the official 39th session of the United Nations Sub-Committee of Experts on the Globally Harmonized System of Classification and Labelling of Chemicals (UNSCEGHS) to be held as a hybrid (in-person and virtual) meeting in early December 9-11, 2020, in Geneva, Switzerland. OSHA, along with the U.S. Interagency Globally Harmonized System of Classification and Labelling of Chemicals (GHS) Coordinating Group, plans to consider the comments and information gathered at this public meeting when developing the U.S. Government positions for the UNSCEGHS meeting.

DATES: The virtual public meeting will take place on November 19, 2020. Specific information for each meeting will be posted when available on the OSHA website at https://www.osha.gov/dsg/hazcom/hazcom_international.html#meeting-notice.

ADDRESSES: The meetings will be virtually hosted through the DOT Headquarters Conference Center, 1200 New Jersey Avenue SE, Washington, DC 20590.

Written Comments: Interested parties may submit comments between November 17 through December 3, 2020, on the Working and Informal Papers for the 39th sessions of the UNSCEGHS to the docket established for International/Globally Harmonized System (GHS) efforts at: http://www.regulations.gov, Docket No. OSHA-2016-0005.

Registration To Attend and/or To Participate in the Virtual Meeting: These meetings will be open to the public on a first-come, first served basis, as space is limited. Advanced meeting registration information will be posted on the PHMSA website. DOT is committed to providing equal access to this meeting for all participants. If you need alternative formats or services because of a disability, such as sign language, interpretation, or other ancillary aids, please contact the person listed in the FOR FURTHER INFORMATION CONTACT section.

Attendees may use the same form to pre-register for both meetings. Failure to pre-register may delay your access into the DOT Headquarters conference call line. Conference call-in and “Skype meeting” capability will be provided for both meetings. Information on how to access the conference call and “Skype meeting” will be posted when available at: https://www.phmsa.dot.gov/international-program/international-program-overview under Upcoming Events. This information will also be posted on OSHA's Hazard Communication website on the international tab at: https://www.osha.gov/dsg/hazcom/hazcom_international.html#meeting-notice.

FOR FURTHER INFORMATION CONTACT:

At the Department of Transportation: Please contact Mr. Steven Webb or Mr. Aaron Wiener, Office of Hazardous Materials Safety, Department of Transportation, Washington, DC 20590, telephone: (202) 366-8553.

At the Department of Labor: Please contact Ms. Maureen Ruskin, OSHA Directorate of Standards and Guidance, Department of Labor, Washington DC 20210, telephone: (202) 693-1950, email: ruskin.maureen@dol.gov.

SUPPLEMENTARY INFORMATION: OSHA will conduct a virtual public meeting in advance of the 39th session of the United Nations Sub-Committee of Experts on the Globally Harmonized System of Classification and Labelling of Chemicals (UNSCEGHS) to be held as a hybrid meeting in early December 2020, in Geneva, Switzerland. This virtual public meeting will occur jointly with the Department of Transportation (DOT), Pipeline and Hazardous Materials Safety Administration (PHMSA) (see FR Doc. 2020-09076 Filed 4-28-20) to discuss proposals in preparation for the 57th session of the United Nations Sub-Committee of Experts on the Transport of Dangerous Goods (UNSCETDG) to be held as a hybrid meeting November 30-December 8, 2020. Advanced meeting registration information will be posted on the PHMSA website (see Docket No. PHMSA-2019-0224; Notice No. 2020-02).

For each of these meetings, OSHA and PHMSA will solicit public input on U.S. government positions regarding proposals submitted by member countries in advance of each meeting.

The OSHA Meeting

OSHA is hosting an open informal public meeting of the official 39th session of the UNSCEGHS which will represent the third and final meeting scheduled for the 2019-2020 biennium. Information on the work of the UNSCEGHS including meeting agendas, working and informal papers, reports, and documents from previous sessions can be found on the United Nations Economic Commission for Europe (UNECE) Transport Division website located at: http://www.unece.org/trans/danger/publi/ghs/ghs_welcome_e.html.

The PHMSA Meeting

Additional information regarding the UNSCETDG and related matters can be found on PHMSA's website at: https://www.phmsa.dot.gov/international-program/international-program-overview.

Authority and Signature

Loren Sweatt, Principal Deputy Assistant Secretary for Occupational Safety and Health, U.S. Department of Labor, authorized the preparation of this notice under the authority granted by sections 4, 6, and 8 of the Occupational Safety and Health Act of 1970 (29 U.S.C. 653, 655, 657), and Secretary's Order 1-2012 (77 FR 3912), (Jan. 25, 2012).

Signed at Washington, DC, on October 16, 2020.
Loren Sweatt,
Principal Deputy Assistant Secretary of Labor for Occupational Safety and Health.

[FR Doc. 2020-23366 Filed 10-21-20; 8:45 am]

BILLING CODE 4510-26-P